DEPARTMENT OF COMMERCE

National Oceanic and Atmospheric Administration

RIN 0648-XD054

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold a meeting of the ABC Control Rule Working Group (Working Group) and Standing and Special Reef Fish Scientific and Statistical Committees (SSC).

DATES: The meetings will be held from 1 p.m. on Wednesday, January 22 until 3 p.m. on Friday, January 24, 2014.

ADDRESSES: The meetings will be held at the Gulf of Fishery Management Council office, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agendas are as follows:

ABC Control Rule Working Group Agenda, Wednesday, January 22, 2014, 1 p.m. Until 5 p.m.

The Working Group is a subset of the SSC that also includes members from the NMFS Southeast Fisheries Science Center. Its function is to develop and evaluate potential revisions to the ABC control rule that was implemented in 2012. Agenda items for the working group include:

1. Review of Alternative Approaches To Setting ABC To Account for Scientific Uncertainty

a. Impose a pre-specified coefficient of variation into the pdf based on expert judgment of the SSC

b. Establish a buffer below OFL of 0% to 25%, based on species life history (e.g., longer-lived species get a larger buffer)

c. Modify the Tier 1 spreadsheet to develop a score that would be used to determine the number of standard deviations to add to the pdf

d. SEFSC approaches based on Ralton et al. (2011)

e. Expand the range of potential P* values in the Tier 1 spreadsheet from 30%-50% to 1%-50%

f. Other approaches

g. Working Group recommendations

2. Other ABC Control Rule Business

a. Recommendation on whether to proceed with a separate action to revise the method for determining P*

b. Other Business

Standing and Special Reef Fish SSC Agenda, Thursday, January 23, 2014, 8:30 a.m. Until 5 p.m.; Friday, January 24, 2014, 8:30 a.m. Until 3 p.m.

1. Approval of August 6-8, 2013 Standing and Special Reef Fish SSC summary minutes

2. Review of Red Snapper MRIP Issues

3. Review of Other Reef Fish MRIP Issues

4. Annual Catch Limits Monitoring Overview

5. Red Snapper Slot Limit Analysis

6. Alternative Red Snapper ABCs

a. based on FSPR 26% (constant catch and constant F)

b. based on FMAX (constant catch and constant F)

7. Pros and Cons of Setting Recreational Red Snapper Quota in Numbers

8. East and West Regional ABC Recommendations for Red Snapper

a. With Mississippi in the East region

b. With Mississippi in the West region

9. ABC Control Rule Revisions and Report of the ABC Control Rule Working Group

10. Update on SEDAR Assessment Schedule

11. SEDAR 40—Red Grouper Benchmark Assessment—preliminaries

a. Review and approval of terms of reference

b. Review of schedule and selection of panel participants

12. Tentative Dates for 2014 SSC Meetings

13. Selection of SSC representative at February 3-7, 2014 Council meeting (Houston)

14. Other business

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: December 26, 2013.
Tracey L. Thompson,
Acting Deputy Director, Office of Sustainable Fisheries, National Marine Fisheries Service.

[FR Doc. 2013-31311 Filed 12-30-13; 8:45 am]

BILLING CODE 3510-22-P